DEPARTMENT OF LABOR

Employment and Training Administration

Notice of Determinations Regarding Eligibility To Apply for Worker Adjustment Assistance

In accordance with Section 223 of the Trade Act of 1974, as amended (19 USC 2273) the Department of Labor herein presents summaries of determinations regarding eligibility to apply for trade adjustment assistance for workers by (TA-W) number issued during the period of June 1, 2010, through June 4, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) there has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) the public agency has acquired from a foreign country services like or directly competitive with services which are supplied by such agency; and

(3) the acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-72,574: Ultra Clean Technology, Leased Workers from West Valley Staffing Agency, Austin, TX: October 10, 2008

TA-W-72,662: Monopanel Technologies, Inc., West Allis, WI: October 22, 2008

TA-W-73,774: Sesame Solutions, LLC, T.J. Harkins; Leased Workers from Hiring Partners, Inc., Paris, TX: March 23, 2009

TA-W-73,906: Ocean Beauty Seafoods, LLC, Los Angeles, CA: April 10, 2009

TA-W-72,246: Greenheck Fan Corporation, Leased Workers from Adecco Employment Services, Randstad, etc., Schofield, WI: September 8, 2008

TA-W-72,530: PTC Alliance Corporation, Jane Lew Plant, Jane Lew, WV: October 7, 2008

TA-W-72,586: Sapa Extrusions, Sapa Industrial Extrusions-Cressona Operation, Cressona, PA: September 30, 2008

TA-W-72,760: Georgia-Pacific Wood Products, LLC, Fordyce Plywood, Fordyce, AR: November 3, 2008

TA-W-72,857: Tasler, Incorporated, Leased Workers of Spherion Staffing, Webster City, IA: November 13, 2008

TA-W-73,159: Roscommon Manufacturing Company, Roscommon, MI: December 18, 2008

TA-W-73,187: Cascade Wood Products, Inc., Leased Workers from Selectemp Employment Services, etc., White City, OR: December 18, 2008

TA-W-73,509: The Liggett Corporation, South Fulton, TN: February 11, 2009

TA-W-73,553: Concise Fabricators, Inc., Leased Workers from Aerotek and Progress Services, Tucson, AZ: February 23, 2009

TA-W-73,567: Hirschler Mfg. Inc., Kirkland, WA: February 22, 2009

TA-W-73,586: Norcross Safety Products, Honeywell International, Inc., Leased Workers from Manpower, Nashua, NH: February 22, 2009

TA-W-73,554: Dixie Belle Textiles, Inc., Elkin, NC: February 20, 2009

TA-W-74,014: 763 Fashion, Inc., New York, NY: April 19, 2009

The following certifications have been issued. The requirements of Section 222(a)(2)(B) (shift in production or services) of the Trade Act have been met.

TA-W-72,484: Nachi Machining Technology Company, Nachi America, Inc., Macomb, MI: September 30, 2008

TA-W-72,782A: Amweld International, LLC, Leased Workers of Snelling, Coppell, TX: November 1, 2008

TA-W-72,782B: Amweld International, LLC, Miami, FL: November 1, 2008

TA-W-72,782: Amweld International, LLC, Leased Workers of Account Temps, North Jackson, OH: November 1, 2008

TA-W-73,090: Cambridge Filter Corporation, Gilbert, AZ: December 1, 2008

TA-W-73,214: Richard Fritz, Inc., Leased Workers from Staff Masters, Duncan, SC: December 12, 2008

TA-W-73,283: Martech Medical Product, Inc., Harleysville, PA: January 4, 2009

TA-W-73,331: Integrated Device Technology, Inc., Leased Workers from Aerotek, Inc., Hillsboro, OR: January 19, 2009

TA-W-73,533: Bontex, Inc., Buena Vista, VA: February 17, 2009

TA-W-73,591A: Chrysler Group, LLC, Manufacturing Division, St. Louis North Plant; American Food, G4S Wackehut, Fenton, MO: February 25, 2009

TA-W-73,641: Mitsuba Bardstown, Inc., Mitsuba Corp., Leased Workers JC Malone Associates and Willstaff, Bardstown, KY: February 25, 2009

TA-W-73,687: Somerset Plastics, Inc., Somerset, PA: March 5, 2009

TA-W-73,700: Roche Diagnostics Operations, Inc., Roche Holdings, Inc., Leased Workers Adecco Technical Division, etc., Indianapolis, IN: March 11, 2009

TA-W-73,703: Betts USA, Inc., Florence, KY: January 19, 2009

TA-W-73,719: Franklin Disposables, LP, Columbus, OH: March 16, 2009

TA-W-73,927: Avox Systems, Inc., Zodiac Aerospace, Leased Workers from KRG, Lancaster, NY: March 29, 2009

TA-W-73,788: Cranston Print Works Company, Corporate & Textile Div., Leased Workers Access Employment of Rhode Island, Cranston, RI: March 10, 2009

TA-W-72,526: Hewlett-Packard Company, Storageworks Business Unit, United Storage Div., leased wkrs Manpower, Fort Collins, CO: October 6, 2008

TA-W-72,687: Pratt and Whitney Engine Services, Inc., Plattsburgh, NY: October 26, 2008

TA-W-73,492A: Avaya, Inc., Leadership & OPS TS&D Worldwide Services; Avaya Global Services, etc., Coppell, TX: February 5, 2009

TA-W-73,492B: Avaya, Inc., Leadership & OPS TS&D Worldwide Services; Avaya Global Services, etc., Milpitas, CA: February 5, 2009

TA-W-73,492: Avaya, Inc., Leadership & OPS TS&D Worldwide Services; Avaya Global Services, etc., Westminster, CO: February 5, 2009

TA-W-73,495: Perkinelmer Health Sciences, Inc., Sales Administration Department, Shelton, CT: February 8, 2009

TA-W-73,507: Inventurus Knowledge Solutions, Inc. (IKS), Indiana, PA: February 5, 2009

TA-W-73,613: Dri Mark Products, Inc., Port Washington, NY: March 1, 2009

TA-W-73,628: AF Services, LLC., Torrance, CA: February 26, 2009

TA-W-73,919: Marsh USA, Inc., Information Technology Department, Des Moines, IA: April 12, 2009

TA-W-74,007: SyChip, Inc., Adminstaff Companies II, LP, Berkeley Heights, NJ: April 23, 2009

TA-W-73,832: Intuit Inc., SBG Telesale—Tuscon Division, Tucson, AZ: April 1, 2009

TA-W-74,018: Paramount Multi-Services, LLC, Dallas, TX: April 28, 2009

The following certifications have been issued. The requirements of Section 222(c) (supplier to a firm whose workers are certified eligible to apply for TAA) of the Trade Act have been met.

TA-W-73,070: Oakley Industries Sub Assembly Division, Incorporated, Leased Workers QPS Companies, Belvidere, IL: December 9, 2008

TA-W-73,074: Johnson Controls, Leased Workers from Kelly Services, Sycamore, IL: December 9, 2008

TA-W-73,263: Wingard Quality Supply, LLC, Leased Workers of Benchmark Specialized Production Staffing, Fremont, CA: January 12, 2009

TA-W-73,303: Weyerhaeuser Company, Corporate Headquarters, Leased Workers from Volt Services, Adecco, etc., Federal Way, WA: January 7, 2009

TA-W-73,633: Meridian Automotive Systems, Inc., Allen Park, MI: February 10, 2009

TA-W-73,901: Trega Corporation, Hamburg, PA: April 12, 2009

TA-W-74,074: Cut Right Wood Products, LLC, McKenzie, TN: May 10, 2009

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W-72,427: Devon Energy Production Co., L.P., Houston, TX

TA-W-73,286: Georgia Pacific Wood Products, Phillips, WI

TA-W-73,569: Triton Holdings, Inc., Formerly Bayview Edison Industries, Mount Vernon, WA

The investigation revealed that the criteria under paragraphs(a)(2)(A) (increased imports) and (a)(2)(B) (shift in production or services to a foreign country) of section 222 have not been met.

TA-W-72,557: Johnson Controls, Inc., Automotive Division, Kansas City, MO

TA-W-72,786: Rexnord Gear, Rexnord Industries, LLC. RBS Global, Inc., Milwaukee, WI

TA-W-73,364: Champion Dyeing And Finishing Company, Inc., Paterson, NJ

TA-W-73,449: Tyco Electronics, Consumer Industrial Solutions, Communications Computer Comsumer Electronics, Norwood, MA

TA-W-72,176A: The Boeing Company, Shared Services Group, Wichita, KS

TA-W-72,176: The Boeing Company, Integrated Defense Systems, Wichita, KS

TA-W-72,567: Steve Williams Ford, Lawrenceburg, TN

TA-W-72,641: Chandler Lake, Inc., Ashland, ME

TA-W-72,953: Matthews International Corporation, Bronze Division, Kingwood, WV

TA-W-73,084: Thyssen Krupp Elevator Manufacturing Inc., Walnut, MS

TA-W-73,182: Thomas Fuels, Lubricants & Chemicals, Inc., Odessa, TX

TA-W-73,192: Hewlett-Packard, Enterprise Services Division, Electronic Data Systems, Medi-Cal Account, Rancho Cordova, CA

TA-W-73,386: Robinson Drilling of Texas, Ltd., Big Spring, TX

TA-W-73,464: Landrex Technologies, Inc., Fremont, CA

TA-W-73,591: Chrysler Group, LLC, Manufacturing Division, St. Louis South Plant, Fenton, MO

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-73,258: Pacific Die Cut Industries, Hayward, CA

TA-W-73,955: Cole Ford Mercury of Winchester, Inc., Winchester, KY

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W-73,279: JP Morgan Chase, Fort Worth, TX

TA-W-73,498: ADC Telecommunications, Shakopee, MN

TA-W-73,930: Dee Van Enterprise USA, Inc., Fremont, CA

The following determinations terminating investigations were issued because the petitioning groups of workers are covered by active certifications. Consequently, further investigation in these cases would serve no purpose since the petitioning group of workers cannot be covered by more than one certification at a time.

TA-W-72,501: PCC Airfoils, LLC, Precision Castparts Corporation, Crooksville, OH

The following determinations terminating investigations were issued because the petitions are the subject of ongoing investigations under petitions filed earlier covering the same petitioners.

TA-W-74,059: Freescale Semiconductors, Woburn, MA

I hereby certify that the aforementioned determinations were issued during the period of June 1, 2010, through June 4, 2010. Copies of these determinations may be requested under the Freedom of Information Act. Requests may be submitted by fax, courier services, or mail to FOIA Disclosure Officer, Office of Trade Adjustment Assistance (ETA), U.S. Department of Labor, 200 Constitution Avenue, NW., Washington, DC 20210 or to foiarequest@dol.gov. These determinations also are available on the Department's Web site at http://www.doleta.gov/tradeact under the searchable listing of determinations.

Dated: June 9, 2010.
Elliott S. Kushner,
Certifying Officer, Division of Trade Adjustment Assistance .

[FR Doc. 2010-14458 Filed 6-15-10; 8:45 am]

BILLING CODE 4510-FN-P